DEPARTMENT OF COMMERCE

National Oceanic and Atmospheric Administration

Agency Information Collection Activities; Submission to the Office of Management and Budget (OMB) for Review and Approval; Comment Request; External Needs Assessment for NOAA Education Products and Programs

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 21, 2021.

ADDRESSES: Interested persons are invited to submit written comments to Adrienne Thomas, NOAA PRA Officer, at Adrienne.thomas@noaa.gov. Please reference OMB Control Number 0648-0784 in the subject line of your comments. Do not submit Confidential Business Information or otherwise sensitive or protected information.

FOR FURTHER INFORMATION CONTACT: Requests for additional information or specific questions related to collection activities should be directed to Bruce Moravchik, National Ocean Service (NOS), 1305 East West Hwy., Bldg. SSMC4, Silver Springs, MD 20910-3278, (240) 533-0874, bruce.moravchik@noaa.gov or Shannon Ricles, NOS, Monitor National Marine Sanctuary, 100 Museum Dr., Newport News, VA 23602 (757) 591-7328, shannon.ricles@noaa.gov.

SUPPLEMENTARY INFORMATION:

I. Abstract

This is a request for revision and extension of a currently approved information collection. The National Ocean Service (NOS) on behalf of the NOAA's Education Council is revising and extending a voluntary multi-question survey used to assess the needs of educators pertaining to the development of future NOAA multimedia products and programs. In developing multimedia materials that convey NOAA's science, service, and stewardship, the Agency must ensure that these resources are of the highest quality and meet the needs of formal and informal educators across the United States. To achieve this goal, it is necessary to conduct surveys identifying the types of educational programs and products that are of the highest interest and greatest need by formal and informal educators. By surveying external educators to gather this information, budget expenditures will be used optimally to develop appropriate products and programs most desired by educators to support and enhance Ocean and Earth science, in addition to other related STEM education subjects throughout our nation. NOAA will use the data to plan, design, and create multimedia products and programs.

The proposed revisions would expand the level of detail in the currently approved information collection. As a result of the Covid-19 pandemic, learning and teaching have changed. The proposed revisions would expound upon previously collected data, giving a better indication of educators' needs regarding multimedia products and programs in their teaching as well as the educator's professional development.

II. Method of Collection

The voluntary needs assessment mechanism will be distributed via email with a link to a Google form to external educators subscribed to NOAA education programs as well as their partners' email distribution lists. The voluntary needs assessment mechanism will also be distributed in person (paper and electronically) at education conferences, workshops, and other venues hosting educators.

III. Data

OMB Control Number: 0648-0784.

Form Number(s): None.

Type of Review: Regular submission [revision and extension of a currently approved collection].

Affected Public: Individuals or households and business or other for-profit organizations.

Estimated Number of Respondents: 1,200 annually.

Estimated Time per Response: Five minutes per survey.

Estimated Total Annual Burden Hours: 100.

Estimated Total Annual Cost to Public: $0.

Respondent's Obligation: Voluntary.

Legal Authority: Magnuson-Stevens Fishery Conservation and Management Act SEC. 315(c).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments submitted in response to this notice are a matter of public record. We will include or summarize each comment in our request to OMB to approve this information collection. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-15706 Filed 7-22-21; 8:45 am]

BILLING CODE 3510-JE-P